DEPARTMENT OF COMMERCE

National Oceanic and Atmospheric Administration

[I.D. 061300A]

Marine Mammals; File No. 981-1578

AGENCY: National Marine Fisheries Service (NMFS), National Oceanic and Atmospheric Administration (NOAA), Commerce.

ACTION: Receipt of application.

SUMMARY: Notice is hereby given that Peter L. Tyack, Ph.D., Woods Hole Oceanographic Institution, Biology Department, 46 Water Street, Woods Hole, MA 02543, has applied in due form for a permit to take several species of marine mammals for purposes of scientific research.

DATES: Written or telefaxed comments must be received on or before July 31, 2000.

ADDRESSES: The application and related documents are available for review upon written request or by appointment in the following office(s):

Permits and Documentation Division, Office of Protected Resources, NMFS, 1315 East-West Highway, Room 13130, Silver Spring, MD 20910 (301/713-2289).

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

FOR FURTHER INFORMATION CONTACT: Jeannie Drevenak, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), the regulations governing the taking, importing, and exporting of endangered fish and wildlife (50 CFR 222.23).

The applicant is requesting to harass the species of cetaceans listed below in the North Atlantic and Mediterranean Sea during the course of research on the impact of noise on marine mammals. The research will involve a variety of potential takes by harassment including: close approach for tagging; attachment of tags; focal follows; and playbacks of sound. In addition, the applicant requests authorization to import to the U.S. and export to foreign countries skin samples collected during the course of suction-cup tag retrieval. Incidental harassment of all species of cetaceans may occur through vessel approach, photographic identification and behavioral research. The research will be carried out over a five-year period.

The following species may be taken by harassment during the course of the research: Minke whale (Balaenoptera acutorostrata), Sei whale (Balaenoptera borealis), Blue whale (Balaenoptera musculus), Finback whale (Balaenoptera physalus), Humpback whale (Megaptera novaeangliae), Common dolphin (Delphinus delphis), Short-finned pilot whale (Globicephala macrorhynchus), Long-finned pilot whale (Globicephala melas), Risso's dolphin (Grampus griseus), Killer whale (Orcinus orca), False killer whale (Pseudorca crassidens), Striped dolphin (Stenella coeruleoalba), Rough-toothed dolphin (Steno bredanensis), Bottlenose dolphin (Tursiops truncatus), Pygmy sperm whale (Kogia breviceps), Dwarf sperm whale (Kogia simus), Sperm whale (Physeter macrocephalus), Bottlenose whale (Hyperoodon ampullatus), Blainville's beaked whale (Mesoplodon densirostris), Gervais' beaked whale (Mesoplodon europaeus), Sowerby's beaked whale (Mesoplodon bidens), True's beaked whales (Mesoplodon mirus), and Cuvier's beaked whale (Ziphius cavirostris).

In compliance with the National Environmental Policy Act of 1969 (42 U.S.C. 4321 et seq.), NMFS is preparing an environmental assessment which will be available from the Chief, Permits and Documentation Division, at the address listed above.

Concurrent with the publication of this notice in the Federal Register, NMFS is forwarding copies of this application to the Marine Mammal Commission and its Committee of Scientific Advisors.

Dated: June 26, 2000.
Ann D. Terbush,
Chief, Permits and Documentation Division, Office of Protected Resources, National Marine Fisheries Service.

[FR Doc. 00-16536 Filed 6-29-00; 8:45 am]

BILLING CODE 3510-22-F